DEPARTMENT OF HOMELAND SECURITY

Coast Guard

[Docket No. USCG-2012-1030]

Chemical Transportation Advisory Committee

AGENCY: Coast Guard, DHS.

ACTION: Committee Management; Notice of Federal Advisory Committee Meeting.

SUMMARY: The Chemical Transportation Advisory Committee (CTAC) and its Subcommittees and Working Groups will meet on December 11 through 13, 2012, in Washington, DC, to discuss marine transportation of hazardous materials in bulk. The meetings will be open to the public.

DATES: CTAC will meet Tuesday, December 11, 2012, from 8 a.m. to 3 p.m. and Wednesday, December 12, 2012, from 8 a.m. to 3 p.m. CTAC Subcommittee and Working Group meetings will begin upon completion of the CTAC meeting agenda on Wednesday, December 12, 2012, and continue until 3 p.m., and resume again on Thursday, December 13, 2012, from 8 a.m. to 3 p.m. Please note that the meetings may close early if the committee has completed its business.

All written materials, comments, and requests to make oral presentations at the meeting should reach Lieutenant Sean Peterson, Assistant Designated Federal Officer (ADFO) for CTAC by November 29, 2012. For contact information please see the FOR FURTHER INFORMATION CONTACT section below. Any written material submitted by the public will distributed to the Committee and become part of the public record.

ADDRESSES: The meetings will be held at U.S. Coast Guard Headquarters Room 6319, 2100 Second Street SW., Washington, DC. Attendees will be required to provide a picture identification card and pass through a magnetometer in order to gain admittance to the U.S. Coast Guard Headquarters Building. Visitors should also arrive at least 30 minutes in advance of the meeting in case of long lines at the entrance.

For information on facilities or services for individuals with disabilities or to request special assistance at the meeting, contact Commander Michael Roldan as soon as possible.

To facilitate public participation, we are inviting public comment on the issues to be considered by the committee as listed in the “Agenda” section below. Comments must be submitted in writing no later than November 29, 2012, and may be submitted by one of the following methods:

(1) Federal eRulemaking Portal: http://www.regulations.gov. (Preferred method to avoid delays in processing.)

• Fax: 202-493-2252.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: This notice, and documents or comments related to it, may be viewed in our online docket, USCG 2012-1030 at http://www.regulations.gov.

A public comment period will be held during the meeting concerning matters being discussed. Public comments will be limited to three minutes per speaker. Please note that the public comment period may end before the time indicated following the last call for comments. Contact the individuals listed below to register as a speaker.

FOR FURTHER INFORMATION CONTACT: Commander Michael Roldan, Designated Federal Officer (DFO) of the CTAC, or Lieutenant Sean Peterson, Assistant Designated Federal Officer, telephone 202-372-1403, fax 202-372-1926. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

CTAC is an advisory committee authorized under section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to marine transportation of hazardous materials in bulk. The Committee advises, consults with, and makes recommendations reflecting its independent judgment to the Secretary.

Agendas of Meetings

The agenda for CTAC is as follows:

1. Introductions and opening remarks.

2. Swearing in newly appointed members.

3. USCG presentations on the following items of interest:

a. Hazardous Substances Response Plans.

b. Vapor control systems and mobile vapor control systems.

c. Classification of Biofuels and Biofuel blends. Shipments and use as fuel of Liquefied Natural Gas and Compressed Natural Gas.

d. Air emissions.

e. Tank Barge best practices.

f. Certification of 3rd party witnesses for the International Convention for the Prevention of Pollution from Ships prewash.

g. Material Safety Data Sheets requirement for oils carried as cargo and fuel.

h. Pending International Maritime Organization issues.

i. Security, Transportations Worker Identification Credential, etc.

j. USCG Centers of Excellence.

k. Food grade product safety.

l. Other items of interest raised by the committee and the public.

4. Public Comment Period.

5. Prioritization of key issues to focus on.

6. Set next meeting date and location.

7. Set Subcommittee and Working Group Meeting schedule.

Subcommittees and Working Group Meetings. Contingent on available expertise at the meeting, working groups will be formed to address the items of interest listed in paragraph (3) above. The agenda for each working group formed will include the following:

(1) Review task statements.

(2) Develop work plan.

(3) Begin working on tasks.

Dated: November 19, 2012.
J.G. Lantz,
Director of Commercial Regulations and Standards.

[FR Doc. 2012-28559 Filed 11-23-12; 8:45 am]

BILLING CODE 9110-04-P